NATIONAL SCIENCE FOUNDATION

STEM Education Advisory Panel; Notice of Meeting

In accordance with the Federal Advisory Committee Act (Pub. L. 92-463, as amended), the National Science Foundation (NSF) announces the following meeting:

Name and Committee Code: STEM Education Advisory Panel (#2624).

Date and Time: September 12, 2018; 8:00 a.m.-4:30 p.m.

Place: National Science Foundation, 2415 Eisenhower Avenue Alexandria, VA 22314.

To help facilitate your entry into the building, please contact Keaven Stevenson via email at kstevens@nsf.gov or by phone: 703.292.8663 on or prior to September 7, 2018.

Type of Meeting: Part-Open.

Contact Person: Keaven Stevenson, Directorate Administrative Coordinator, Room C 11044, National Science Foundation, 2415 Eisenhower Avenue Alexandria, VA 22314. Contact Information: 703-292-8663/kstevens@nsf.gov.

Purpose of Meeting: To provide advice and recommendations to the Committee on Science, Technology, Engineering, and Mathematics Education (CoSTEM) and for the Panel to identify priority areas for the next year.

Agenda: STEM Education Advisory Panel agenda attached. Please check the website for any additional updates prior to the meeting at https://nsf.gov/ehr/STEMEdAdvisory.jsp.

Reason for Closing: The panel will review and discuss a draft government report. This discussion must be kept confidential. These matters are exempt under 5 U.S.C. 552b(c), (9)(B) of the Government in the Sunshine Act.

Dated: August 13, 2018.
Crystal Robinson,
Committee Management Officer.

[FR Doc. 2018-17689 Filed 8-15-18; 8:45 am]

BILLING CODE 7555-01-P